DEPARTMENT OF AGRICULTURE

Forest Service

West Maurys Fuels and Vegetation Management Project, Ochoco National Forest, Crook County, OR

AGENCY: Forest Service, USDA.

ACTION: Revised notice of intent to prepare an Environmental Impact Statement.

SUMMARY: On January 16, 2004, the USDA, Forest Service, Ochoco National Forest, published a notice of intent in Federal Register (69 FR 2563) to prepare an Environmental Impact Statement (EIS) on a proposal to manage the fuels and vegetation in the west half of the West Maury Mountains. The original notice of intent identified 7,650 acres of fuels treatment; the correct number is 17,890 acres.

DATES: The original notice of intent asked that comments concerning the scope of the analysis would be most helpful if received by February 16, 2004. To provide adequate time for meaningful participation, comments are now due March 1, 2004.

ADDRESSES: Send written comments to Arthur Currier, District Ranger, Lookout Mountain District, Ochoco National Forest, 3160 NE., Third Street, Prineville, Oregon 97754.

FOR FURTHER INFORMATION CONTACT: Bryan Scholz, Interdisciplinary Team leader, phone: (541) 416-6500, or e-mail: comments-pacificnorthwest-ochoco@fs.fed.us.

Dated: January 28, 2004.
Craig Courtright,
Acting Forest Supervisor.

[FR Doc. 04-2243 Filed 2-3-04; 8:45 am]

BILLING CODE 3410-11-M